DEPARTMENT OF TRANSPORTATION

National Highway Traffic Safety Administration

[Docket No. NHTSA-2014-0095; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA) has determined that certain Michelin Pilot Street Radial replacement motorcycle tires, do not fully comply with paragraph S6.5(f) of Federal Motor Vehicle Safety Standard (FMVSS) No. 119, New Pneumatic Tires for Motor Vehicles with a GVWR of More Than 4,536 kilograms (10,000 pounds) and Motorcycles. MNA has filed an appropriate report dated July 3, 2014, pursuant to 49 CFR Part 573, Defect and Noncompliance Responsibility and Reports.

DATES: The closing date for comments on the petition is October 23, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. MNA's Petition: Pursuant to 49 U.S.C. 30118(d) and 30120(h) (see implementing rule at 49 CFR Part 556), MNA submitted a petition for an exemption from the notification and remedy requirements of 49 U.S.C. Chapter 301 on the basis that this noncompliance is inconsequential to motor vehicle safety.

This notice of receipt of MNA's petition is published under 49 U.S.C. 30118 and 30120 and does not represent any agency decision or other exercise of judgment concerning the merits of the petition.

II. Tires Involved: Affected are approximately 889 Michelin Pilot Street Radial motorcycle tires, involving a total of three dimensions (110/70 R17 54H, 130/70 R17 62H, and 140/70 R17 66H), that were manufactured between August 12, 2012 and December 21, 2013 in Phrapradaeng, Thailand.

III. Noncompliance: MNA explains that the noncompliance is that on the sidewall containing the DOT Tire Identification Number (TIN,) the marking describing the generic material content of the casing plies for tread and sidewall, required by paragraph S6.5(f) of FMVSS No. 119, is incorrect.

For the subject tires, the marking reads:

Tread plies | Sidewall plies
2 polyamide | 2 polyamide
1 aramid

The correct marking for these tires is:

Tread plies | Sidewall plies
2 polyester | 2 polyester
1 aramid

V. Rule Text: Paragraph S6.5(f) of FMVSS No. 119 requires in pertinent part:

S6.5 Tire markings. Except as specified in this paragraph, each tire shall be marked on each sidewall with the information specified in paragraphs (a) through (j) of this section. The markings shall be placed between the maximum section width (exclusive of sidewall decorations or curb ribs) and the bead on at least one sidewall, unless the maximum section width of the tire is located in an area which is not more than one-fourth of the distance from the bead to the shoulder of the tire. If the maximum section width falls within that area, the markings shall appear between the bead and a point one-half the distance from the bead to the shoulder of the tire, on at least one sidewall. The markings shall be in letters and numerals not less than 2 mm (0.078 inch) high and raised above or sunk below the tire surface not less that 0.4 mm (0.015 inch), except that the marking depth shall be not less than 0.25mm (0.010 inch) in the case of motorcycle tires. The tire identification and the DOT symbol labeling shall comply with part 574 of this chapter. Markings may appear on only one sidewall and the entire sidewall area may be used in the case of motorcycle tires and recreational, boat, baggage, and special trailer tires. * * *

(f) The actual number of plies and the composition of the ply cord material in the sidewall and, if different, in the tread area; * * *

V. Summary of MNA's Analyses: MNA stated its belief that the subject noncompliance is inconsequential to motor vehicle safety for the following reasons:

(A) FMVSS Safety: The subject tires meet or exceed all of the minimum performance requirements of FMVSS No. 119 for motorcycle tires, and carry on their sidewalls all the other required markings of FMVSS No. 119. The content of these tires is as designed; it is only the marking of the generic material for the casing plies which is inconsistent with the content. Since the generic material marking does not influence the purchase nor the fitment of tires to vehicles, the above described noncompliance is viewed by MNA to have no impact on the performance of the tire, nor the associated motor vehicle safety.

(B) Tire labeling: The subject tires contain the necessary tire material labeling information on at least one sidewall. The number of reinforcing plies in the tread, and in the sidewall, are correct. It is the descriptor for the generic material which is not consistent with the actual content of the tire—“Polyamide” in place of “Polyester.” Since this marking is only on one sidewall and there is no other marking to compare it to, consumers will not be confused by the content of the marking, nor do they make purchasing decisions based upon this mark. Only a specialist, familiar with the differences between ‘polyamide’ and ‘polyester’, with access to the internal content of the tire, would recognize this discrepancy.

(C) Market Action: This marking discrepancy has no impact on a consumer's, dealer's, or distributor's ability, nor our ability, to identify product in the event of a market action. During market actions, the tire dimension, brand name, load capacity, and TIN are used to identify tires which are to be removed from the market. The tire's generic material content marking would therefore not have an impact on a consumer's or dealer's ability to implement a market action.

(D) Previous Rulings: On previous occasions, the Agency has reviewed other petitions for inconsequential noncompliance involving the descriptor for the tire's generic material content, e.g., NHTSA-2011-0033-0003: In this case, the term “Polyester” was substituted for “Nylon” when describing the tread plies. NHTSA agreed with Goodyear that the non-compliances were inconsequential to motor vehicle safety. “In the agency's judgment, the incorrect labeling of the tire construction information will have an inconsequential effect on motor vehicle safety because most consumers do not base tire purchases or vehicle operation parameters on the ply material in a tire.” We believe that in this instance the marking non-compliances are inconsequential to motor vehicle safety.

MNA has additionally informed NHTSA that it has corrected the noncompliance so that all future production motorcycle tires will comply with FMVSS No. 119.

In summation, MNA believes that the described noncompliance of the subject motorcycle tires is inconsequential to motor vehicle safety, and that its petition, to exempt MNA from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject motorcycle tires that MNA no longer controlled at the time it determined that the noncompliance existed. However, any decision on this petition does not relieve tire distributors and dealers of the prohibitions on the sale, offer for sale, or introduction or delivery for introduction into interstate commerce of the noncompliant tires under their control after MNA notified them that the subject noncompliance existed.

Authority: 49 U.S.C. 30118, 30120: delegations of authority at 49 CFR 1.95 and 501.8.

Jeffrey M. Giuseppe,
Acting Director, Office of Vehicle Safety Compliance.

[FR Doc. 2014-22525 Filed 9-22-14; 8:45 am]

BILLING CODE 4910-59-P